DEPARTMENT OF STATE

[Public Notice: 7541]

Culturally Significant Objects Imported for Exhibition Determinations: “The Invention of Glory: Afonso V and the Pastrana Tapestries”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “The Invention of Glory: Afonso V and the Pastrana Tapestries,” imported from abroad for temporary exhibition within the United States, are of cultural significance. The objects are imported pursuant to loan agreements with the foreign owners or custodians. I also determine that the exhibition or display of the exhibit objects at the National Gallery of Art, Washington, DC, from on or about September 18, 2011, until on or about January 8, 2012, the Meadows Museum, Dallas, Texas, from on or about February 5, 2012, until on or about May 13, 2012, the San Diego Museum of Art, San Diego, California, from on or about June 10, 2012, until on or about September 9, 2012, the Indianapolis Museum of Art, Indianapolis, Indiana, from on about October 5, 2012, until on or about January 6, 2013, and the Peabody Essex Museum, Salem, Massachusetts, from on or about February 3, 2013, until on or about May 5, 2013, and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: July 21, 2011.
J. Adam Ereli,
Principal Deputy Assistant Secretary, Bureau of Educational and Cultural Affairs, Department of State.

[FR Doc. 2011-19251 Filed 7-28-11; 8:45 am]

BILLING CODE 4710-05-P